DEPARTMENT OF AGRICULTURE

Food and Nutrition Service

7 CFR Part 246

RIN 0584-AE21

Special Supplemental Nutrition Program for Women, Infants and Children (WIC): Implementation of the Electronic Benefit Transfer-Related Provisions of Public Law 111-296; Extension of Comment Period

AGENCY: Food and Nutrition Service (FNS), USDA.

ACTION: Proposed rule; extension of comment period.

SUMMARY: This proposed rule would revise regulations governing the WIC Program, incorporating the provisions set forth in the Healthy, Hunger-Free Kids Act of 2010 (HHFKA) related to Electronic Benefit Transfer (EBT) for the WIC Program. The comment period is being extended to provide additional time for interested parties to review the proposed rule, to June 29, 2013.

DATES: The comment period for the proposed rule that was published on February 28, 2013 (78 FR 13549) has been extended from May 29, 2013 to June 29, 2013. To be assured of consideration, comments must be postmarked on or before June 29, 2013.

ADDRESSES: FNS invites interested persons to submit comments on this proposed rule. Comments may be submitted by any of the following methods:

• Mail: Send written comments to Debra R. Whitford, Director, Supplemental Food Programs Division, Food and Nutrition Service, USDA, 3101 Park Center Drive, Room 520, Alexandria, Virginia 22302, (703) 305-2746.

• Web site: Go to http://www.fns.usda.gov/wic. Follow the online instructions for submitting comments through the link at the Supplemental Food Programs Division Web site.

• Federal eRulemaking Portal: Go to http://www.regulations.gov. Follow the online instructions for submitting comments.

All comments submitted in response to this proposed rule will be included in the record and will be made available to the public. Please be advised that the substance of the comments and the identities of the individuals or entities submitting the comments will be subject to public disclosure. All written submissions will be available for public inspection at the address above during regular business hours (8:30 a.m. to 5:00 p.m.), Monday through Friday.

FOR FURTHER INFORMATION CONTACT: Debra R. Whitford, Director, Supplemental Food Programs Division, Food and Nutrition Service, USDA, 3101 Park Center Drive, Room 528, Alexandria, Virginia 22302, (703) 305-2746.

SUPPLEMENTARY INFORMATION:

Background

This proposed rule would amend the WIC regulations to implement provisions related to EBT in the WIC Program included in Public Law 111-296, the Healthy, Hunger-Free Kids Act of 2010 (HHFKA), signed into law on December 13, 2010. The HHFKA amended provisions of the Child Nutrition Act of 1966 (42 U.S.C. 1771 et seq.) (CNA). The EBT provisions of the HHFKA that are included in this proposed rule are: (1) A definition of EBT; (2) a mandate that all WIC State agencies implement EBT systems by October 1, 2020; (3) a requirement for State agencies to submit annual EBT status reports on their progress toward EBT implementation; (4) revisions to current provisions that prohibit imposition of costs on retail vendors; (5) a requirement for the Secretary of Agriculture to establish minimum lane equipage standards; (6) a requirement for the Secretary of Agriculture to establish technical standards and operating rules; and (7) a requirement that State agencies use the National Universal Product Code (NUPC) database. FNS issued policy and guidance to WIC State agencies on the implementation of the legislative requirements addressed in this rulemaking that were effective on October 1, 2010. However, selected areas of the law are discretionary and therefore, FNS is seeking public comment on several of the requirements contained in this proposed rule. The comment period is extended to provide additional time for interested parties to review and submit comments on the proposed EBT changes until June 29, 2013.

Dated: May 22, 2013.
Jeffrey J. Tribiano,
Acting Administrator, Food and Nutrition Service.

[FR Doc. 2013-12688 Filed 5-28-13; 8:45 am]

BILLING CODE 3410-30-P